DEPARTMENT OF COMMERCE

International Trade Administration

[A-570-880]

Barium Carbonate From the People's Republic of China: Final Results of Sunset Review and Revocation of Antidumping Duty Order

AGENCY: Enforcement and Compliance, International Trade Administration, Department of Commerce.

SUMMARY: On July 1, 2025, the U.S. Department of Commerce (Commerce) initiated the fourth sunset review of the Antidumping Duty (AD) Order on barium carbonate from the People's Republic of China (China). Because no domestic party responded to the sunset review notice of initiation by the applicable deadline, consistent with section 751(c)(3)(A) of the Tarriff Act of 1930, as amended (the Act), Commerce is revoking the AD Order on barium carbonate from China.

DATES: Applicable October 3, 2025.

FOR FURTHER INFORMATION CONTACT: David De Falco, Trade Agreements Policy and Negotiations, Enforcement and Compliance, International Trade Administration, U.S. Department of Commerce, 1401 Constitution Avenue NW, Washington, DC 20230; telephone: (202) 482-2178.

SUPPLEMENTARY INFORMATION:

Background

On October 1, 2003, Commerce published the Order on barium carbonate from China.¹ On August 20, 2020, Commerce published the most recent continuation of the Order.² On July 1, 2025, Commerce published the initiation of the fourth sunset review of the Order pursuant to section 751(c) of the Act.³

¹ See Antidumping Duty Order: Barium Carbonate from the People's Republic of China, 68 FR 56619, (October 1, 2003) (Order).

² See Barium Carbonate from the People's Republic of China: Continuation of Antidumping Duty Order, 85 FR 51409, (August 20, 2020) (Continuation Order).

³ See Initiation of Five-Year (Sunset) Reviews, 90 FR 28722, (July 1, 2025).

We did not receive a substantive response to the notice of initiation from any domestic interested party, pursuant to 19 CFR 351.218(d)(3). has responded to the notice of initiation under section 751(c)(3)(A) of the Act. under section 751(c)(3)(A) of the Act.

Scope of the Order

The merchandise covered by this Order is barium carbonate, regardless of form or grade. The product is currently classifiable under subheading 2836.60.0000 of the Harmonized Tariff Schedule of the United States (HTSUS). Although the HTSUS subheading is provided for convenience and customs purposes, the written description of the scope of this proceeding is dispositive.

Revocation

Pursuant to section 751(c)(3)(A) of the Act, “{i}f no interested party responds to the notice of initiation . . . {Commerce} shall issue a final determination, within 90 days after the initiation of a review, revoking the order.” Because no domestic interested parties responded to the notice of initiation in these segments of the proceeding, Commerce is revoking the Order.

Effective Date of Revocation

Pursuant to section 751(c)(3)(A) of the Act and 19 CFR 351.222(i)(2)(i), Commerce intends to instruct U.S. Customs and Border Protection to terminate the suspension of liquidation of the merchandise subject to this Order entered, or withdrawn from the warehouse, on or after August 20, 2025, the fifth anniversary of the date of publication of the last continuation notice.⁴ Entries of subject merchandise prior to the effective date of revocation will continue to be subject to suspension of liquidation and AD deposit requirements. Commerce may conduct administrative reviews of subject merchandise entered prior to the effective date of revocation in response to appropriately filed requests for review.

⁴ See Continuation Order.

Notification to Interested Parties

We are issuing and publishing this notice in accordance with sections 751(c) and 777(i)(1) of the Act, and 19 CFR 351.222(i)(1)(i).

Dated: September 29, 2025.
Christopher Abbott,
Deputy Assistant Secretary for Policy and Negotiations, performing the non-exclusive functions and duties of the Assistant Secretary for Enforcement and Compliance.

[FR Doc. 2025-19409 Filed 10-2-25; 8:45 am]

BILLING CODE 3510-DS-P